OFFICE OF GOVERNMENT ETHICS

Agency Information Collection Activities: Information Collection Renewal; Comment Request; Fast Track Generic Clearance for the Collection of Qualitative Feedback on Agency Service Delivery

AGENCY: Office of Government Ethics (OGE).

ACTION: Notice and request for comments.

SUMMARY: After this first round notice and public comment period, the Office of Government Ethics (OGE) intends to submit a renewed Generic Information Collection Request for the collection of qualitative feedback on agency service delivery for review and approval of a three-year extension under the Paperwork Reduction Act.

DATES: Written comments by the public and agencies on this proposed extension are invited and must be received by July 19, 2021.

ADDRESSES: Comments may be submitted to OGE by any of the following methods:

Email: usoge@oge.gov (Include reference to “Fast Track Generic Clearance comment” in the subject line of the message.)

Mail, Hand Delivery/Courier: Office of Government Ethics, 1201 New York Avenue NW, Suite 500, Attention: Grant Anderson, Assistant Counsel, Washington, DC 20005-3917.

Instructions: Comments may be posted on OGE's website, www.oge.gov. Sensitive personal information, such as account numbers or Social Security numbers, should not be included. Comments generally will not be edited to remove any identifying or contact information.

FOR FURTHER INFORMATION CONTACT: Grant Anderson at the U.S. Office of Government Ethics; telephone: 202-482-9318; TTY: 800-877-8339; Email: ganderso@oge.gov.

SUPPLEMENTARY INFORMATION: Title: Fast Track Generic Clearance for the Collection of Qualitative Feedback on Agency Service Delivery.

Abstract: The proposed information collection provides a means to garner qualitative customer and stakeholder feedback in an efficient, timely manner, in accordance with the agency's commitment to improving service delivery. Qualitative feedback means information that provides useful insights on perceptions and opinions, but is not a statistical survey that yields quantitative results that can be generalized to the population of study. This feedback will provide insights into customer or stakeholder perceptions, experiences, and expectations, provide an early warning of issues with service, or focus attention on areas where communication, training, or changes in operations might improve delivery of products or services. These collections will allow for ongoing, collaborative, and actionable communications between the agency and its customers and stakeholders. It will also allow feedback to contribute directly to the improvement of program management. OGE expects to use various methods (e.g., focus groups, customer satisfaction surveys, comment cards) to solicit feedback. Responses will be assessed to plan and inform efforts to improve or maintain the quality of service offered to the public and other agency stakeholders. If this information is not collected, vital feedback from customers and stakeholders on the agency's services will be unavailable.

The agency will only submit a collection for approval under this generic clearance if it meets the following conditions:

• The collections are voluntary;

• The collections are low-burden for respondents (based on considerations of total burden hours, total number of respondents, or burden-hours per respondent) and are low-cost for both the respondents and the Federal Government;

• The collections are non-controversial;

• The collections are focused on the awareness, understanding, attitudes, preferences, or experiences of the public or other stakeholders in order to improve existing or future services, products, or communication materials;

• Personally identifiable information (PII) is collected only to the extent necessary;

• Information gathered will be used only internally for general service improvement and program management purposes and is not intended for release to the public;

• Information gathered will not be used for the purpose of substantially informing influential policy decisions; and

• Information gathered will yield qualitative information; the collections will not be designed or expected to yield statistically reliable results or used as though the results are generalizable to the population of study.

Feedback collected under this generic clearance provides useful information, but it does not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

As a general matter, information collections submitted under this generic clearance will not result in any new system of records containing privacy information and will not ask questions of a sensitive nature, such as sexual behavior and attitudes, religious beliefs, and other matters that are commonly considered private.

OMB Number: 3209-0010.

Type of Request: Extension.

Affected Public: Individuals; Business or Other For-Profit Institutions; Not-For-Profit Institutions; State, Local, or Tribal Government.

Projected average burden estimates for the next three years:

Estimated Annual Number of Respondents: 91,425.

Average Expected Annual Number of Activities: 39.

Average Number of Respondents per Activity: 2,344.

Responses per Respondent: 1.

Annual Responses: 91,425.

Average Minutes per Response: 3 minutes.

Annual Burden Hours: 3,900 hours.

Frequency: On occasion.

Request for Comments: Agency and public comment is invited specifically on the need for and practical utility of this information collection, the accuracy of OGE's burden estimate, the enhancement of quality, utility and clarity of the information collected, and the minimization of burden (including the use of information technology). Comments received in response to this notice will be summarized for, and may be included with, the OGE generic information collection request. The comments will also become a matter of public record.

Approved: May 14, 2021.
Emory Rounds,
Director, U.S. Office of Government Ethics.

[FR Doc. 2021-10531 Filed 5-18-21; 8:45 am]

BILLING CODE 6345-03-P